PRESIDIO TRUST

Notice of Wireless Telecommunications Site

AGENCY: The Presidio Trust.

ACTION: Public notice.

SUMMARY: This notice announces the Presidio Trust's receipt of and availability for public comment on an application from T-Mobile West LLC to construct and operate a new wireless telecommunications facilities site (“Project”) in the Presidio of San Francisco. The proposed location of the Project is in the vicinity of 1450 Battery Caulfield Road.

The Project involves (i) co-locating nine antennae and one microwave dish mounted at a centerline of 116 feet on a 130-foot lattice tower being constructed by Verizon Wireless, and (ii) placing the associated radio and communications equipment on a concrete pad adjacent to the tower. Power and fiber connections for the project will be provided through underground cables connected to existing power and fiber sources.

Comments: Comments on the proposed project must be sent to Steve Carp, Presidio Trust, 103 Montgomery Street, P.O. Box 29052, San Francisco, CA 94129-0052, and be received by November 15, 2016. A copy of T-Mobile's application is available upon request to the Presidio Trust.

FOR FURTHER INFORMATION CONTACT: Steve Carp, Presidio Trust, 103 Montgomery Street, P.O. Box 29052, San Francisco, CA 94129-0052. Email: scarp@presidiotrust.gov. Telephone: 415.561.5300.

Dated: October 6, 2016.
Andrea M. Andersen,
Acting General Counsel.

[FR Doc. 2016-24739 Filed 10-12-16; 8:45 am]

BILLING CODE 4310-4R-P